DEPARTMENT OF TRANSPORTATION

Federal Aviation Administration

Notice of Intent To Request Approval From the Office of Management and Budget (OMB) for a Public Collection of Information for Competition Plans Under the Passenger Facility Charge (PFC) and Airport Improvement Program (AIP)

AGENCY: Federal Aviation Administration (FAA) (DOT).

ACTION: Notice.

SUMMARY: In compliance with the Paperwork Reduction Act (44 U.S.C. 3501 et seq.), the FAA invites public comment on a public information collection which will be submitted to OMB for approval.

DATES: Comments must be submitted on or before October 16, 2000.

ADDRESSES: Comments may be mailed or delivered to FAA, at the following address: Ms. Judith Street, Room 613, Federal Aviation Administration, Standards and Information Division, APF-100, 800 Independence Avenue, SW, Washington, DC 20591.

FOR FURTHER INFORMATION CONTACT: Ms. Judith Street, at the above address or on (202) 267-9895.

SUPPLEMENTARY INFORMATION: The FAA solicits comments on the following new collection of information in order to evaluate the necessity of the collection, the accuracy of the agency's estimate of burden, the quality, utility, and clarity of the information to be collected, and possible ways to minimize the burden of collection. The following is a synopsis of the information collection activity which will be submitted to OMB for review and approval:

Section 155 of the “Wendell H. Ford Aviation Investment and Reform Act for the 21st Century” (AIR 21) requires that, beginning in fiscal year 2001, a covered airport must submit a written competition plan to the Secretary/Administrator in order to receive approval to impose a PFC or to receive a grant under the AIP. A covered airport is further defined as a medium or large hub airport at which one or two air carriers control more than 50 percent of the passenger boardings. As of the time of the publication of this notice, there were 41 covered airports identified by the Secretary/Administrator. These airports would file such a plan annually to the Secretary/Administrator. However, the burden associated with subsequent annual submittals is expected to be substantially less than with the initial submittal.

As specified by AIR 21, the competition plan is required to include information on the availability of airport gates and related facilities, leasing and sub-leasing arrangements, gate-use requirements, patterns of air service, gate-assignment policy, financial constraints, airport controls over air- and ground-side capacity, whether the airport intends to build or acquire gates that would be used as common facilities, and airfare levels compared to other large airports. In addition to this information, the Secretary/Administrator is required to review any such plan to ensure it meets these requirements and review the implementation of the plan at each covered airport.

Although the information needed to prepare such a plan should be readily available to the airports, it will be necessary for each airport to coordinate, compile, and produce the information in the form of a competition plan. At 41 submittals in the first year at a 120 hour rate = 4,920 hours. Costs associated with meeting this requirement for the 41 submittals at the 120 hour rate = 4,920 hours × $30 per hour = $147,600. Subsequent plan submittals at 41 submittals per year at a 30 hour rate would equal 1,230 hours. Costs associated with meeting this requirement for the 41 submittals at the 30 hour rate = 1,230 hours × $30 per hour = $36,900.

In addition, each covered airport must keep sufficient records for the Secretary/Administrator to make these determinations. Time for recordkeeping associated with this requirement at 41 locations per year at the 25 hour rate = 1,025 hours. Costs associated with meeting this requirement for the 41 submittals at the 25 hour rate = 1,025 hours × $30 per hour = $30,750.

The total reporting and recordkeeping burden for the first year is estimated to be 5,945 with a corresponding estimated cost of $178,350. The total reporting and recordkeeping burden for subsequent years is estimated to be 2,255 hours with a corresponding estimated cost of $67,650.

The information collected from this form allows the FAA to approve the collection of PFC revenue and issue grants-in-aid under the AIP for projects which preserve or enhance safety, security, or capacity of the national air transportation system; or which reduce noise or mitigate noise impacts resulting from an airport; or furnish opportunities for enhanced competition between or among air carriers.

It is also noted that an agency may not conduct or sponsor, and a person is not required to respond to, a collection of information unless it displays a currently valid OMB control number. When assigned by OMB, the control number will be published in the Federal Register.

Issued in Washington, DC on August 9, 2000.
Steve Hopkins,
Manager, Standards and Information Division, APF-100

[FR Doc. 00-20945 Filed 8-16-00; 8:45 am]

BILLING CODE 4910-13-M